DEPARTMENT OF DEFENSE

Department of the Army, U.S. Army Corps of Engineers

Notice of Availability of Supplemental Information Report for Berryessa Creek Element, Coyote and Berryessa Creek, Flood Control Project, Santa Clara County, CA

AGENCY: Department of the Army, U.S. Army Corps of Engineers, DOD.

ACTION: Public notice.

SUMMARY: The U.S. Army Corps of Engineers (USACE) has prepared a Supplemental Information Report (SIR) to update and clarify the General Reevaluation Report/Environmental Impact Statement (GRR/EIS) for the Berryessa Creek Element of the Coyote and Berryessa Creek, California, Flood Control Project (Project) to account for the fact that the Project will remove an existing exercise “pocket park” and paved trail within the Project footprint and will involve in-channel work year-round in the absence of substantial rainfall (defined as 0.5 inch or greater precipitation forecast by the National Weather Service in their 72-hour forecast for the Project area). The removal of the existing exercise pocket park facilities was omitted from the original GRR/EIS and the clarification regarding in-channel work year-round when weather permits (i.e., in the absence of substantial rainfall) is in response to informal comments. The USACE has determined that these elements do not amount to substantial changes to the proposed action and do not constitute significant new circumstances or information bearing upon the proposed action or its impacts. Therefore, a supplement to the GRR/EIS is not necessary.

ADDRESSES: To obtain a copy of the SIR send requests to Ms. Amanda Cruz, U.S. Army Corps of Engineers, San Francisco District, 1455 Market Street, 17th Floor, San Francisco, CA 94103-1398 or email: Amanda.B.Cruz@usace.army.mil.

FOR FURTHER INFORMATION CONTACT: Amanda Cruz, (415) 503-6955.

SUPPLEMENTARY INFORMATION: The March 2014 Final GRR/EIS for the Berryessa Creek Element, and its accompanying CWA § 404(b)(1) alternatives analysis, recommended an earthen trapezoidal channel section with varying bottom width and 2H:1V side slopes that provides protection against the one-percent annual chance exceedance flood event from I-680 in San Jose to Calaveras Boulevard in Milpitas (hereinafter “Project”). These environmental analyses determined the Project to be the National Economic Development Plan (NED), the National Environmental Policy Act (NEPA) environmentally preferable alternative, the California Environmental Quality Act (CEQA) § 15126.6(e)(2) environmentally superior alternative, and the CWA § 404 Least Environmentally Damaging Practicable Alternative (LEDPA). The USACE Director of Civil Works signed the Record of Decision (ROD) on May 29, 2014.

The SIR serves to update the Project description and impact analysis in the GRR/EIS to include the removal of the pocket exercise park facilities and clarify that in-channel construction may occur year-round in the absence of substantial rainfall. The Project as described in the GRR/EIS would remove an existing pocket park with permanent outdoor exercise equipment and about 460 linear feet of paved trail located on property owned by the Project's non-Federal sponsor, the Santa Clara Valley Water District, in order to allow for construction of the widened channel. The existence of these features and the fact that they would be removed by the Project were inadvertently omitted from the GRR-EIS. Additionally, the GRR-EIS stated that “construction activities would occur primarily during the dry season from May to the end of October” and included a mitigation measure stating that best management practices for the Project would include preparation and implementation of “an Erosion and Sediment Control Plan consistent with RWQCB policy and guidelines” that would require contractors to “limit in-channel construction to the low-flow period between April 15 and October 31 to minimize soil erosion.” This SIR clarifies the measure to specifically state that construction activities may occur year-round with suspension of in-channel work and implementation of a Project-specific Rain Event Action Plan (REAP) if 0.5 inch or greater precipitation is forecast by the National Weather Service in their 72-hour forecast for the Project area.

The SIR evaluates the potential effects on environmental resources of removing the exercise pocket park and allowing in-channel work year-round in the absence of substantial rainfall. Effects on the following environmental resources were considered: Air quality; climate change; water resources and quality; fisheries; biological resources; topography and soils; geology and seismicity; cultural resources; land use and socioeconomics; traffic and circulation; noise; recreation and public access; aesthetics and visual resources; hazardous, toxic, and radiological waste; growth-inducing effects; and cumulative effects. Based on this analysis, the USACE has determined that removing the exercise pocket park and allowing in-channel work year-round in the absence of substantial rainfall will not result in new significant environmental impacts not already identified in the GRR/EIS.

Because removing the exercise pocket park features and allowing in-channel work year-round in the absence of substantial rainfall will not result in new significant environmental impacts, these elements do not amount to substantial changes to the proposed action and do not constitute significant new circumstances or information bearing upon the proposed action or its impacts. Therefore, the USACE concludes that preparation of a supplement to the GRR/EIS, as defined in section 1502.9(c) of the CEQ Regulations, is not necessary. The Project remains the environmentally preferable alternative.

John C. Morrow,
Lieutenant Colonel, U.S. Army, District Engineer.

[FR Doc. 2016-10263 Filed 5-2-16; 8:45 am]

BILLING CODE 3720-58-P